SMALL BUSINESS ADMINISTRATION

Advisory Committee on Veterans Business Affairs

AGENCY: U.S. Small Business Administration.

ACTION: Notice of open Federal Advisory Committee meeting.

SUMMARY: The SBA is issuing this notice to announce the location, date, time, and agenda for the next meeting of the Advisory Committee on Veterans Business Affairs. The meeting will be open to the public.

DATES: Wednesday, June 8, 2016 from 9 a.m. to 4 p.m.

ADDRESSES: U.S. Small Business Administration, 409 3rd Street SW., Washington, DC 20416. Room: Administrator's Conference Room, located on the 7th Floor.

SUPPLEMENTARY INFORMATION: Pursuant to section 10(a)(2) of the Federal Advisory Committee Act (5 U.S.C., Appendix 2), SBA announces the meeting of the Advisory Committee on Veterans Business Affairs. The Advisory Committee on Veterans Business Affairs serves as an independent source of advice and policy recommendation to the Administrator of the U.S. Small Business Administration. The purpose of this meeting is to discuss the formation and growth of small business concerns owned and controlled by veterans and service disabled-veterans and to focus on strategic planning and provide updates on past and current events. For information regarding our veterans' resources and partners, please visit our Web site at www.sba.gov/vets.

Additional Information: The meeting is open to the public. Advance notice of attendance is requested. Anyone wishing to attend and/or make a presentation to the Advisory Committee must contact Jaime Wood, no later than May 27, 2916 via email in order to be placed on the agenda. Verbal presentations will be limited to five minutes in the interest of time and to accommodate as many presenters as possible. Written comments for the record or for special accommodations during the meeting should be emailed to Jaime Wood, Director of Policy and Engagement, Office of Veterans Business Development, at vetstaskforce@sba.gov, no later than May 27, 2016. For more information, please visit our Web site at www.sba.gov/vets.

Dated: May 16, 2016.
Miguel J. L'Heureux,
SBA Committee Management Officer.

[FR Doc. 2016-12563 Filed 5-26-16; 8:45 am]

BILLING CODE 8025-01-P